DEPARTMENT OF COMMERCE

National Oceanic and Atmospheric Administration

Hydrographic Services Review Panel Meeting, September 27th-29th, 2023

AGENCY: National Ocean Service (NOS), National Oceanic and Atmospheric Administration (NOAA).

ACTION: Notice of public meeting; request for comment.

SUMMARY: This serves as notice of a public meeting for the NOAA Hydrographic Services Review Panel (HSRP) Federal Advisory Committee between September 27th, and September 29th, 2023. The agenda for the HSRP public meeting will be posted in advance of the meeting on the HSRP website. Individuals or groups who would like to comment on NOAA navigation, observation, and positioning services topics are encouraged to submit public comments in advance of the HSRP public meeting via email or during the public meeting via the “Questions” function in the webinar for the public meeting.

DATES: Members of the public may attend the NOAA HSRP public meeting in person or virtually on the following dates and at the following times:

1. September 27th, 2023, 9 a.m.-5:30 p.m. Eastern Time (ET).

2. September 28th, 2023, 9 a.m.-5:30 p.m. ET.

3. September 29th, 2023, 9 a.m.-12:30 p.m. ET.

ADDRESSES: Instructions for how to register to attend the HSRP public meeting in person and virtually can be found at the following website: https://attendee.gotowebinar.com/register/7026716459954703189. The HSRP public meeting agenda, draft meeting documents, presentations, and background materials are posted and updated online and can be found at the following HSRP websites: https://www.nauticalcharts.noaa.gov/hsrp/hsrp.html and https://www.nauticalcharts.noaa.gov/hsrp/meetings.html. The agenda is subject to change. Past HSRP recommendation letters, issue papers, and position papers may be found online at: https://www.nauticalcharts.noaa.gov/hsrp/recommendations.html.

Comments for the HSRP public meeting record may be submitted by one of the following methods:

• Email: Send written comments in advance of the HSRP public meeting to hydroservices.panel@noaa.gov, with “September 2023 HSRP meeting public comments” in the subject line of the email message.

• Webinar: Submit written comments during the HSRP public meeting through the HSRP webinar's “Questions” function. As time allows, commenters may be invited to orally expand on their written comments submitted during the public meeting's public comment periods.

FOR FURTHER INFORMATION CONTACT: Virginia Dentler, Acting NOAA HSRP Program Manager, email: hydroservices.panel@noaa.gov, phone: 240-507-0585.

SUPPLEMENTARY INFORMATION: The Hydrographic Services Improvement Act of 1998, as amended (HSIA; 33 U.S.C. 892 et seq.), established the HSRP as a Federal Advisory Committee (see 33 U.S.C. 892c) to advise the NOAA Administrator “on matters related to the responsibilities and authorities set forth in [33 U.S.C. 892a]” of the HSIA, “and such other appropriate matters as the Administrator refers to the [HSRP] for review and advice.”

The HSRP invites NOAA stakeholder feedback and welcomes public comments in advance of and during the upcoming HSRP public meeting on the use of NOAA's navigation, observations, and positioning data, science, products, and services for the National Ocean Service's Center for Operational Oceanographic Products and Services, National Geodetic Survey, and Office of Coast Survey, and the NOAA/University of New Hampshire Joint Hydrographic Center. Public comments sent in advance of the HSRP public meeting will be shared with the HSRP members, posted on the meeting website, and included in the public record for the meeting. Individuals and groups may also submit public comments during the meeting through the webinar's “Questions” function. These public comments will be read into the record during public comment periods. As time allows, commenters may be invited to orally expand on their written comments during the meeting's public comment periods. Due to time constraints, all public comments may not be addressed orally during the meeting.

Matters to Be Considered

The HSRP members will focus on the mission and issues relevant to NOAA's navigation, observations, and positioning services, and the value these services bring the nation, and invite suggestions from stakeholders and partners for improvements to these services. This suite of NOAA services supports safe and efficient navigation, the blue economy, resilient coasts and communities, and the nationwide positioning information infrastructure to support America's climate needs and commerce. Specifically, the HSRP will consider:

• National Ocean Service programs' recent activities such as the update to the National Spatial Reference System, datums, national ocean and coastal mapping goals and the Standard Ocean Mapping Protocol, hydrographic surveying, nautical charting, uncrewed systems, coastal remote sensing and bathymetric lidar, photogrammetry, positioning, sea level rise and water levels in support of “seamless data.”

• The status of NOAA's navigation services in the context of recent legislation (e.g., the National Defense Authorization Act, Bipartisan Infrastructure Law, and Inflation Reduction Act).

• Measuring, monitoring, and mitigating flooding and sea level change and the contribution of NOAA's critical foundational geospatial data to projects.

• NOAA navigation data, products, and services that enable further economic growth and impact safe navigation.

• The geodesy education and training crisis.

• The exploration of possible benefits and applicability of Digital Twin technology to help manage coastal mapping data, maritime navigation, fleet management and related applications. Digital Twin uses Artificial Intelligence, deep learning, data analytics, and modeling to maximize use of tremendous amounts of data.

• Other topics related to NOAA programs and activities may be discussed, such as bathymetric and coastal/ocean modeling, tide and current observations, contributions to resilience and coastal data and information systems to support planning for climate change, flooding, inundation, contributions to the Blue Economy, Physical Oceanographic Real-Time System (PORTS®) ( ) sensor enhancements and expansion, Precision Marine Navigation, the transition from raster paper charts to Electronic Navigational Charts, geodetic observations, gravity modeling, and data stewardship.

• And, the scientific mapping and technology research projects tied to the cooperative agreements between NOAA and partners at the University of New Hampshire and the University of South Florida.

Special Accommodations

This public meeting is accessible to people with disabilities and there will be sign language interpretation and captioning services. Please direct requests for other auxiliary aids to Melanie Colantuno at hydroservices.panel@noaa.gov at least 10 business days in advance of the meeting.

Benjamin K. Evans,
Director, Office of Coast Survey, National Ocean Service, National Oceanic and Atmospheric Administration.

[FR Doc. 2023-17556 Filed 8-15-23; 8:45 am]

BILLING CODE 3510-JE-P